DEPARTMENT OF HOUSING AND URBAN DEVELOPMENT

[Docket No. FR-5601-N-18]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, DAIM-ZS, Room 8536, 2511 Jefferson Davis Hwy, Arlington, VA 22202; GSA: Mr. John E.B. Smith, General Services Administration, Office of Real Property Utilization and Disposal, 1800 F Street NW., Room 7040 Washington, DC 20405; INTERIOR: Mr. Michael Wright, Acquisition & Property Management, Department of the Interior, 1801 Pennsylvania Ave. NW., 4th Floor, Washington, DC 20006: (202) 208-5399; NAVY: Mr. Steve Matteo, Department of the Navy, Asset Management Division, Naval Facilities Engineering Command, Washington Navy Yard, 1330 Patterson Ave. SW., Suite 1000, Washington, DC 20374; (202) 685-9426 (202) 501-0084; (These are not toll-free numbers).

Dated: May 3, 2012.
Mark R. Johnston,
Deputy Assistant Secretary for Special Needs.

Title V, Federal Surplus Property Program Federal Register Report for 05/11/2012

Suitable/Available Properties

Building

Alabama

Federal Bldg. & Courthouse

1118 Greensboro Ave.

Tuscaloosa AL 35401

Landholding Agency: GSA

Property Number: 54201220005

Status: Surplus

GSA Number: AL-0074-ZZ

Comments: 10,494 sf.; federal offices/courthouse; roof needs extensive repairs; severe leaks around drains; asbestos identified

Hawaii

5 Bldgs.

Marine Corps Base

Kaneohe HI 96863

Landholding Agency: Navy

Property Number: 77201220005

Status: Excess

Directions: 98, 3090, 3091, 3093, 4091

Comments: off-site removal only; relocation may be difficult due to deteriorated conditions; sf. varies; usage varies; needs extensive repairs

Kentucky

5 Bldgs.

Blue Grass Army Depot

Richmond KY 40475

Landholding Agency: Army

Property Number: 21201220045

Status: Underutilized

Directions: 501, 558, 909, 1003, 1500

Comments: off-site removal only; relocation may be difficult due to extremely poor conditions; sf varies; current use storage; contact Army for further details

27 Bldgs

Blue Grass Army Depot

Richmond KY 40475

Landholding Agency: Army

Property Number: 21201220046

Status: Underutilized

Directions: F0446-0469, G0470-0474, G0476-0479, H0483-0489, J0491-0493, J0495-0498

Comments: off-site removal only; 168 sf. for each; safety shelter; relocation may be difficult due to poor conditions

E0450-0457 & E0459

Blue Grass Army Depot

Richmond KY 40475

Landholding Agency: Army

Property Number: 21201220047

Status: Underutilized

Comments: off-site removal only; 168 sf. for each; safety shelter; relocation may be difficult due to poor conditions

D0440-D0449

Blue Grass Army Depot

Richmond, KY 40475

Landholding Agency: Army

Property Number: 21201220048

Status: Underutilized

Comments: off-site removal only; 168 sf. for each; safety shelter; relocation may be difficult due to poor conditions

C0431-C0438

Blue Grass Army Depot

Richmond KY 40475

Landholding Agency: Army

Property Number: 21201220049

Status: Underutilized

Comments: off-site removal only; 168 sf. for each; safety shelter; relocation may be difficult due to poor conditions

B0420-B0429

Blue Grass Army Depot

Richmond KY 40475

Landholding Agency: Army

Property Number: 21201220050

Status: Underutilized

Comments: off-site removal only; 168 sf. for each; safety shelter; relocation may be difficult due to poor conditions

A0410-0419

Blue Grass Army Depot

Richmond KY 40475

Landholding Agency: Army

Property Number: 21201220051

Status: Underutilized

Comments: Off-site removal only; 168 sf. each; safety shelter; relocation may be difficult due to conditions of properties

Maryland

Consumer Products Safety Commission

10901 Darnestown Rd.

Gaithersburg MD 20878

Landholding Agency: GSA

Property Number: 54201220004

Status: Surplus.

GSA Number: NCR-G-MR-1107-01

Directions: property includes building and land

Comments: 37,543 sf.; office/warehouse space; secured area; however, will not interfere w/conveyance; contact GSA for further details

Michigan

Nat'l Weather Svc Ofc

214 West 14th Ave.

Sault Ste. Marie MI

Landholding Agency: GSA

Property Number: 54200120010

Status: Excess

GSA Number: 1-C-MI-802

Comments: Previously unavailable; however, the property is `available' as a facility to assist the homeless; 2230 sq. ft., presence of asbestos, most recent use—office

Oregon

Rager Ranger Station House

7615 Rager Rd.

Paulina OR 97751

Landholding Agency: GSA

Property Number: 54201220003

Status: Excess

GSA Number: 9-A-OR-0798

Comments: Off-site removal only; 1,560 sf.; residential; extensive rehabilitation needed; contact GSA for further details

Land

Colorado

.07 Acres

Bureau of Reclamation

Dolores CO

Landholding Agency: Interior

Property Number: 61201220006

Status: Excess

Comments: Narrow strip of land; construction or structures are prohibited; assemblage to an adjoining parcel; as standalone parcel does not conform to county regs. for residential or commercial use

[FR Doc. 2012-11091 Filed 5-10-12; 8:45 am]

BILLING CODE 4210-67-P